FEDERAL ELECTION COMMISSION

Sunshine Act Notices

AGENCY: Federal Election Commission.

PREVIOUSLY ANNOUNCED DATE AND TIME: Thursday, July 21, 2005, 10 a.m. Meeting open to the public. This meeting was cancelled.

PREVIOUSLY ANNOUNCED DATE AND TIME: Thursday, July 28, 2005, 10 a.m. Meeting open to the public. This meeting was cancelled.

DATE AND TIME: Thursday, August 4, 2005, at 10 a.m.

PLACE: 999 E Street, NW., Washington, DC (Ninth Floor).

STATUS: These hearings will be open to the public.

MATTERS BEFORE THE COMMISSION:

(1) State, District, and Local Party Committee Payment of Certain Salaries and Wages;

(2) Definition of Federal Election Activity.

PERSON TO CONTACT FOR INFORMATION: Mr. Robert Biersack, Press Officer, telephone: (202) 694-1220.

Mary W. Dove,
Secretary of the Commission.

[FR Doc. 05-15068 Filed 7-26-05; 2:30 pm]

BILLING CODE 6715-01-M